DEPARTMENT OF THE INTERIOR

Bureau of Land Management

[NDM-88114]

Public Land Order No. 7577; Transfer of Jurisdiction; North Dakota

AGENCY: Bureau of Land Management, Interior.

ACTION: Public Land Order.

SUMMARY: This order transfers jurisdiction of 640 acres of public land within the boundary of the Little Missouri National Grasslands to the United States Forest Service.

EFFECTIVE DATE: July 28, 2003.

FOR FURTHER INFORMATION CONTACT: Deborah Sorg, BLM Montana State Office, P.O. Box 36800, Billings, Montana 59107-6800, 406-896-5045, or Douglas Burger, BLM North Dakota Field Office, 2933 Third Avenue West, Dickinson, North Dakota 58601-2619, 701-227-7703.

SUPPLEMENTARY INFORMATION: This is a transfer of surface estate only. The land has been and shall remain open to mining, mineral and geothermal leasing, and mineral material sales.

Order

By virtue of the authority vested in the Secretary of the Interior by Section 204 of the Federal Land and Policy Management Act of 1976, 43 U.S.C. 1714 (1994) it is ordered as follows:

Subject to valid existing rights, jurisdiction of the following described land within the boundary of the Little Missouri National Grasslands, is hereby transferred to the United States Forest Service, to be managed as National Grasslands:

Fifth Principal Meridian, North Dakota

T. 141 N., R. 101 W.,

Sec. 10.

The area described contains 640 acres in Billings County.

Dated: July 11, 2003.
Rebecca W. Watson,
Assistant Secretary—Land and Minerals Management.

[FR Doc. 03-19124 Filed 7-25-03; 8:45 am]

BILLING CODE 3410-11-P